DEPARTMENT OF HEALTH AND HUMAN SERVICES

Administration for Community Living

Agency Information Collection Activities; Submission for OMB Review; Public Comment Request; Independent Living Services (ILS) Program Performance Report (PPR) (0985-0043)

AGENCY: Administration for Community Living (ACL), HHS.

ACTION: Notice.

SUMMARY: The Administration for Community Living is announcing that the proposed collection of information listed above has been submitted to the Office of Management and Budget (OMB) for review and clearance as required under the Paperwork Reduction Act of 1995. This 30-Day notice collects comments on the information collection requirements related to Independent Living Services Program Performance Report (Proposed Extension with Changes of a Currently Approved Collection (ICR Rev)).

DATES: Comments on the information collection request must be submitted electronically by 11:59 p.m. (EST) or postmarked by February 25, 2019.

ADDRESSES: Submit written comments on the collection of information by:

(a) email to: OIRA_submission@omb.eop.gov, Attn: OMB Desk Officer for ACL; (b) fax to 202.395.5806, Attn: OMB Desk Officer for ACL; or (c) by mail to the Office of Information and Regulatory Affairs, OMB, New Executive Office Bldg., 725 17th St. NW, Rm. 10235, Washington, DC 20503, Attn: OMB Desk Officer for ACL.

FOR FURTHER INFORMATION CONTACT: Peter Nye, Administration for Community Living, Washington, DC 20201, (202) 795-7606 or peter.nye@acl.hhs.gov.

SUPPLEMENTARY INFORMATION: In compliance with 44 U.S.C. 3507, ACL has submitted the following proposed collection of information to OMB for review and clearance. The Act of 1973 requires three Independent Living program reports: (1) State Plan for Independent Living, (2) ILS PPR, and (3) Center for Independent Living (CIL) PPR. The ILS PPR and CIL PPR were previously combined into one submission. However, for the purposes of this data collection, the ILS PPR and CIL PPR are being submitted separately because they are separate collections of different information from different parties. Separating these PRA processes reduces confusion and increases the Independent Living Administration's (ILA) ability to identify issues specific to designated state entities (DSEs) and Statewide Independent Living Councils (SILCs). This request is for the ILS PPR, which is submitted annually by the SILC and DSE in every state that receives Subchapter B funds. The ILS PPRs are used by ACL to assess grantees' compliance with title VII of the Rehabilitation Act of 1973, as amended, with 45 CFR part 1329 of the Code of Federal Regulations, and with applicable provisions of the HHS Regulations at 45 CFR part 75. The ILS PPR serves as the primary basis for ACL's monitoring activities in fulfillment of its responsibilities under sections 706 and 722 of the Act. The PPR is also used by ACL to design CIL and SILC training and technical assistance programs authorized by section 721 of the Act. The data is also used to meet the requirements of GPRAMA regarding performance measures. 31 U.S.C. 1115 (2011).

The current version of the ILS PPR that ILA is requesting an extension for was approved by OMB, but will expire on December 31, 2018. ILA plans to substantively review the data collection and publish a revised ILS program data collection instrument before the expiration of the extension request.

The proposed data collection tools may be found on the ACL website for review at https://www.acl.gov/about-acl/public-input.

Comments in Response to the 60-Day Federal Register Notice

A notice was published in the Federal Register on October 19, 2018 (Vol. 83, Number 2018-22751; pp. 53062-53063).

Data collection form | Comment | ACL response
One commenter asked whether ACL intends for states to use the new ILS PPR for the report that will be due in January 2019 | ACL does not intend for states to use the new ILS PPR for the report that will be due in January 2019 | No change has been made.
One commenter asked whether ACL has an update on the publication of the revised CIL indicators | ACL is updating the CIL indicators and expects to complete them by the extension's end | No change has been made.
One commenter asked whether there are other email lists related to IL services policies or programs that ACL has that DSEs could benefit from | ACL knows of no other email lists related to IL services policies or programs that DSEs could benefit from being added to; the commenter might benefit from information provided by ILRU, the training and technical-assistance provider | No change has been made.

The proposed form(s) may be found on the ACL website at https://www.acl.gov/about-acl/public-input.

Estimated Program Burden

ACL estimates the burden of this collection of information as follows: Fifty-six jurisdictions—specifically, the fifty states, Puerto Rico, the District of Columbia, and the outlying areas—will each complete ILS PPRs annually, and it will take an estimated thirty-five hours per jurisdiction per ILS PPR. The fifty-six jurisdictions will take an estimated 1,960 hours per year to complete ILS PPRs. This burden estimate is based on what DSEs and SILCs have told ILA about how long filling out ILS PPRs took in previous reporting years.

Respondent/data collection activity | Number of respondents | Responses per respondent | Hours per response | Annual burden hours
SILCs and DSEs | 56 | 1 | 35 | 1,960

Dated: December 18, 2018.
Mary Lazare,
Principal Deputy Administrator.

[FR Doc. 2018-27900 Filed 12-21-18; 8:45 am]

BILLING CODE 4154-01-P